DEPARTMENT OF AGRICULTURE

Farm Service Agency

Meeting Entitled “Conservation Reserve Program: Re-enrollments and Extensions”

AGENCY: Farm Service Agency, USDA.

ACTION: Notice of a meeting on the Conservation Reserve Program.

SUMMARY: USDA's Farm Service Agency (FSA) is hosting a public meeting on re-enrollment and extension of certain Conservation Reserve Program (CRP) contracts. The CRP is the Nation's largest conservation program.

DATES: June 24, 2005.

ADDRESSES: The conference will be held at the Animal & Plant Health Inspection Service (APHIS), USDA Conference Center, 4700 River Road, Riverdale, Maryland 20737. The facility is located near the College Park Metro Station, or parking is available nearby for $2.25.

For Further Information on the Conservation Reserve Program Contact: John Carter, Farm Service Agency, USDA, 1400 Independence Avenue, SW., STOP 0513, Washington, DC 20250-0513; telephone: (202) 720-8774; FAX (202) 720-4619; e-mail: john.carter@wdc.uda.gov.

FOR FURTHER MEETING INFORMATION CONTACT: Matthew Ponish, Farm Service Agency, USDA, 1400 Independence Ave., SW., STOP 0513, Washington, DC 20250-0513; telephone: (202) 720-6853; FAX: (202) 720-4619; e-mail: matthew.ponish@wdc.usda.gov regarding conference questions. Persons with disabilities who require special accommodation to attend or participate in the conference should contact Toni Paris, telephone: (301) 734-8010 by June 16, 2005.

Conference Registration: Meeting attendees must register in advance online at http://www.fsa.usda.gov/dafp/cepd/public_meeting/register.htm. There is no charge to attend the meeting. Because space is limited and for security purposes, advance registration is required and all attendees will need to present a valid picture ID to enter the building. Conference details, including registration, meeting agenda, hotel accommodations and directions are available on FSA's Web site at: http://www.fsa.usda.gov/dafp/cepd/public_meeting/information.htm or from Matthew Ponish at (202) 720-6853; e-mail: matthew.ponish@wdc.usda.gov.

SUPPLEMENTARY INFORMATION: First established in 1985, the CRP is a voluntary program, funded by the Commodity Credit Corporation (CCC), encouraging farmers to implement conservation practices on environmentally-sensitive agricultural land to reduce soil erosion, protect water quality and enhance wildlife habitat. The CRP has provided significant environmental benefits across the nation, primarily by providing wildlife habitat, improving stream quality, and reducing soil erosion. The U.S. Department of Agriculture is committed to full enrollment up to the authorized level of 39.2 million acres. To ensure that the environmental benefits of CRP continue, and because of the significant number of contract expirations beginning in 2007, the FSA will offer early re-enrollments and extensions of existing contracts to current CRP participants.

About 35 million acres are currently enrolled in the CRP. Over 16 million acres of CRP contracts expire in 2007, over 6 million acres expire in 2008, and 6 million acres in 2009 and 2010. Determining the future direction of the CRP is thus critical.

CCC published a notice in the Federal Register on August 10, 2004 [69 FR 48447] seeking public comment on a number of issues involving the large number of expiring CRP contracts, such as how to best stagger contract expirations using re-enrollments and extensions over several years and under what criteria.

In response to the FR notice, CCC received over 5,000 comments from a total of 570 individuals, agencies, and organizations. A majority of the comments received pertained to extending a contract for a certain length of time (question 1) and renewing a contract without competition (question 5). However, before proceeding with changes in the CRP implementation, CCC has determined that a public meeting should be held in order to solicit additional comments as well as provide a forum for open discussion of the following two topics:

Topic 1. How should CCC address the large number of expiring CRP contracts and their associated acres in a manner that achieves the most environmental benefits but is also administratively feasible and cost-effective? What methods should be pursued that would address the large acreage expiring beginning in 2007 (for example, how could CCC stagger the contract expirations over several-year intervals and what criteria could CCC use to select and extend contracts)?

Topic 2. If CCC offered CRP re-enrollment without competition, how could it ensure that program goals are achieved in a manner that results in the most environmental benefits but is also administratively feasible and cost effective? How could CCC determine which contracts and acres would be most environmentally valuable to re-enroll in the CRP without competition through a standard Environmental Benefits Index ranking process?

AGENDA: The meeting will be structured around the two primary issues regarding expiring contracts and re-enrollment. Information and presentations will help establish the scope of the meeting and focus the facilitated discussion on the primary topics outlined in this notice.

Signed in Washington, DC May 26, 2005.
James R. Little,
Administrator, Farm Service Agency.

[FR Doc. 05-11128 Filed 5-31-05; 3:18 pm]

BILLING CODE 3410-05-P